DEPARTMENT OF COMMERCE

National Oceanic and Atmospheric Administration

50 CFR Parts 600 and 648

[I.D. 032400C]

Magnuson-Stevens Act Provisions; General Provisions for Domestic Fisheries; Applications for Exempted Fishing Permits (EFPs) to Conduct Experimental Fishing

AGENCY: National Marine Fisheries Service (NMFS), National Oceanic and Atmospheric Administration (NOAA), Commerce.

ACTION: Notification of EFP proposals to conduct experimental fishing; request for comments.

SUMMARY: NMFS announces that the Administrator, Northeast Region, NMFS (Regional Administrator), has made a preliminary determination to issue EFPs to conduct experimental fishing to two vessels participating in separate fisheries that would permit these vessels to conduct operations otherwise restricted by regulations governing the fisheries of the Northeastern United States. The EFPs would exempt vessels from regulations regarding: Days-at-sea (DAS) while fishing for, retaining, and landing Atlantic sea scallops; fishing in the scallop closed areas; and limiting the vessel's scallop and bycatch harvest. Regulations under the Magnuson-Stevens Fishery Conservation and Management Act require publication of this notification to provide interested parties the opportunity to comment on the proposed EFP to conduct experimental fishing. A decision to approve or disapprove the EFPs will be made following the comment period.

DATES: Comments on this notification must be received on or before 5:00 p.m., local time, on April 24, 2000.

ADDRESSES: Comments should be sent to Patricia A. Kurkul, Regional Administrator, NMFS, Northeast Regional Office, 1 Blackburn Drive, Gloucester, MA 01930. Mark on the outside of the envelope “Comments on Proposed Scallop EFP Proposals.”

Comments also may be sent via facsimile (fax) to (978) 281-9135. Comments will not be accepted if submitted via e-mail or Internet.

FOR FURTHER INFORMATION CONTACT: David Gouveia, Fishery Policy Analyst, 978-281-9280.

SUPPLEMENTARY INFORMATION: The Virginia Institute of Marine Science (VIMS) proposes a scallop resource depletion study in selected locations within the Hudson Canyon and Virginia Beach Closure Areas chosen in consultation with the Northeast Fisheries Science Center's scallop survey stations. In addition, this study proposes to collect information on bycatch, habitat effects, and bio-fouling of sea scallops. Depending on the funding available, this study may also attempt to use an autonomous underwater vehicle to verify tow tracks and habitat modifications.

On a tow-by-tow basis, scientific staff and designated crew members will enumerate bycatch and estimate quantities of non-bycatch debris (mollusk shells) and will report on their general physical condition. The overall objective of the study is to assess the increased availability of commercial sea scallop biomass resulting from the area closures that commenced 2 years ago. A similar study in Georges Bank Closed Area II was not performed until 4 years after the closure. It is thought that more knowledge could be gained from a post-dredge survey conducted closer to the cessation of mobile gear activity.

The survey would be conducted during the period June through July 2000 and would employ the use of two 15-ft (4.57-m) commercial sea scallop dredges at 400 pre-designated stations. Sampling densities of approximately one station per 7.5 nm² in the Hudson Canyon South Closure Area, and one station per 5.0 nm² in the Virginia Beach Closure Area are proposed. Sampling density will be increased to one station per 5.0 nm² on or near the edges of closed area boundaries. Set tow times of 10 minutes at a speed of 4.5 knots will be used to calibrate area gear coverage (width of gear x length of dredge path). The dredge gear will comply with all mesh size and gear configuration provisions of Amendment 4 to the Atlantic Sea Scallop Fishery Management Plan (FMP). Therefore, no special twine-top configurations or rock chains will be used.

No other species besides Atlantic sea scallops will be retained or landed, except for unusual specimens of interest to scientists and only at the discretion of the chief scientist in charge of at-sea cruise operations. All fishing activities conducted by the participating vessel must only be research activities. All commercial operations would be prohibited. The participating vessel would be exempt from regulations on scallop harvest and bycatch (50 CFR 648.52 and 648.53) but would be allowed to retain and land no more than 9,100 lb (4,127.76 kg) (650 lb/day (294.84 kg/day)) of Atlantic sea scallops. It would also be exempt from the Atlantic Sea Scallop DAS program when fishing under the EFP (50 CFR 648.10). Based on this landing limit, participants would be required to commit a maximum of 14 days to the study.

The vessel's crew will be instructed that low value sea scallops may not be discarded in favor of retaining high value sea scallops (high grading). VIMS' chief scientist is charged with monitoring all stages of the proposed cruise operations in support of the study objectives, and will ensure maximum integrity of data collection and organization of deck operations. The second proposal, submitted by Coonamessett Farm, proposes to test new gear designs to reduce yellowtail flounder and skate bycatch rates. The experimental dredge will have two modifications. The first modification adds a 10-inch (25.40-cm) mesh panel between the depressor plate and the dredge bale that will follow the angle of the depressor plate. The second modification adds the equivalent of an old-style locomotive cow catcher under the bale frame that would direct skates and flatfish above the bale, along the mesh panel, and over the dredge frame. The applicant requests one 7-day trip to the Georges Bank and South Channel sea scallop stock areas. The participating vessel would be allowed to retain up to 850 lb (385.56 kg) of scallop meats per day, not to exceed 5,950 lb (2,698.9 kg) of scallop meats for the entire trip. An EFP issued to the vessel participating in the Coonamessett Farm proposal would exempt the vessel from the DAS restrictions (50 CFR 648.53) and limit the vessel's scallop and bycatch harvest (50 CFR 648.52 and 648.53). Although the dredge gear used by Coonamessett Farm is modified, the changes to the dredge are within the current dredge specifications found in the Atlantic Sea Scallop FMP. Therefore, no exemption of the dredge gear is necessary.

Coonamessett Farm and VIMS would each conduct experimental fishing activities with a single commercial vessel with a Federal limited access Atlantic sea scallop permit. The vessels will be allowed to land and sell sea scallops caught during the conduct of the experiment, up to a maximum, which is determined based on the average scallop catch per DAS for the most recent 12-month period available for the Atlantic sea scallop stock areas.

Authority: 16 U.S.C. 1801 et seq.

Dated: April 3, 2000.
Bruce C. Morehead,
Acting Director, Office of Sustainable Fisheries, National Marine Fisheries Service.

[FR Doc. 00-8667 Filed 4-6-00; 8:45 am]

BILLING CODE 3510-22-F